DEPARTMENT OF ENERGY

Federal Energy Regulatory Commission

[Docket No. RP04-59-001]

Chandeleur Pipe Line Company; Notice of Compliance Filing

December 18, 2003.

Take notice that on December 11, 2003, Chandeleur Pipe Line Company (Chandeleur) tendered for filing as part of its FERC Gas Tariff, Second Revised Volume No. 1, 2nd Substitute Thirteenth Revised Sheet No. 5, with an effective date of January 1, 2004.

Chandeleur states that the filing is being made to support an adjustment to its Fuel and Line Loss Allowance effective January 1, 2004.

Any person desiring to protest said filing should file a protest with the Federal Energy Regulatory Commission, 888 First Street NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00647 Filed 12-24-03; 8:45 am]

BILLING CODE 6717-01-P